DEPARTMENT OF TRANSPORTATION

Pipeline and Hazardous Materials Safety Administration

49 CFR Parts 192 and 195

[Docket No. PHMSA-05-21253; Amdt. Nos. 192-103 and 195-86]

RIN 2137-AD68

Pipeline Safety: Update of Regulatory References to Technical Standards

AGENCY: Pipeline and Hazardous Materials Safety Administration (PHMSA), Department of Transportation.

ACTION: Final rule.

SUMMARY: PHMSA is amending a final rule published in the Federal Register on June 9, 2006, which updated the pipeline safety regulations to incorporate by reference all or parts of new editions of voluntary consensus technical standards to enable pipeline operators to utilize current technology, materials, and practices.

DATES: The final rule takes effect on March 5, 2007.

FOR FURTHER INFORMATION CONTACT: Richard D. Huriaux, Director, Technical Standards at (202) 366-4565, by fax at (202) 366-4566, or by e-mail at richard.huriaux@dot.gov. Copies of this document or other material in the docket can be reviewed by accessing the Docket Management System's home page at http://dms.dot.gov.

General information on the pipeline safety program is available at PHMSA's Web site at http://phmsa.dot.gov.

SUPPLEMENTARY INFORMATION:

Background

On June 9, 2006, PHMSA published a final rule in the Federal Register entitled “Pipeline Safety: Update of Regulatory References to Technical Standards” (71 FR 33402). Amendment Nos. 192-103, 193-19, and 195-86 updated references to pipeline-related technical standards and made a number of editorial corrections. We subsequently identified several omissions and editorial corrections in parts 192 and 195. In this correction notice we make the following corrections and edits:

• Three editorial corrections are necessary in § 192.1. The spelling of the word “apply” is corrected in the introductory text of paragraph (b), the comma is replaced by a “;” at the end of paragraph (b)(2), and the comma is replaced by “; or” at the end of paragraph (b)(4)(iii). We are restating these entire paragraphs for clarity.

• In Part 192, the restatement of the table of standards incorporated by reference inadvertently deleted API Recommended Practice 80 (API RP 80), “Guidelines for the Definition of Onshore Gas Gathering Lines” (1st edition, April 2000). We are restating the list of API standards at § 192.7(c)(2) to properly include API RP 80.

• Paragraph 192.227(a) incorrectly references “Appendix A.” We are correcting this to refer to “§ 192.7” and restating the entire paragraph for clarity.

• Paragraphs 192.727(g)(2) and 195.59(a) are updated to correctly reference the NPMS homepage at http://www.npms.phmsa.dot.gov. We are restating these entire paragraphs for clarity.

• Paragraphs 192.727(g)(1) and 195.59(b) are removed because the April 10, 2001, deadline to report pipeline facilities abandoned before October 10, 2000, has expired.

• Paragraphs 192.727(g)(1), 192.949, 192.951, and 195.59(a) are updated to reference the correct room number for the filing of reports, “Room 2103.” We are restating these entire paragraphs for clarity.

• The current version of the gas pipeline safety regulations inadvertently omitted some text in the definition of High consequence area in paragraph § 192.903. This is corrected herein by adding back paragraphs (3) and (4) following paragraph (2)(ii) and updating the agency name.

• In § 192.949 paragraphs (1), (2), and (3) are corrected to read (a), (b), and (c) and the section heading is revised.

• In § 192.951 paragraphs (1), (2), and (3) are corrected to read (a), (b), and (c).

Need for Correction

As published, the final regulations contain errors which may prove to be misleading and need to be clarified.

List of Subjects

49 CFR Part 192

Incorporation by reference, Natural gas, Pipeline safety.

49 CFR Part 195

Anhydrous ammonia, Carbon dioxide, Incorporation by reference, Petroleum, Pipeline safety.

In consideration of the foregoing, PHMSA amends 49 CFR parts 192 and 195 to read as follows:

PART 192—[AMENDED]

1. The authority citation for part 192 continues to read as follows:

Authority: 49 U.S.C. 5103, 60102, 60104, 60108, 60109, 60110, 60113, and 60118; and 49 CFR 1.53.

2. Paragraphs (b) introductory text, (b)(2), and (b)(4)(iii) of § 192.1 are revised to read as follows:

§ 192.1 What is the scope of this part?

* * * * *

(b) This part does not apply to—

(2) Pipelines on the Outer Continental Shelf (OCS) that are producer-operated and cross into State waters without first connecting to a transporting operator's facility on the OCS, upstream (generally seaward) of the last valve on the last production facility on the OCS. Safety equipment protecting PHMSA-regulated pipeline segments is not excluded. Producing operators for those pipeline segments upstream of the last valve of the last production facility on the OCS may petition the Administrator, or designee, for approval to operate under PHMSA regulations governing pipeline design, construction, operation, and maintenance under 49 CFR 190.9;

(4) * * *

(iii) Within inlets of the Gulf of Mexico, except for the requirements in § 192.612; or

* * * * *

3. Paragraph (c)(2), entry B. of § 192.7 is revised to read as follows:

§ 192.7 What documents are incorporated by reference partly or wholly in this part?

* * * * *

(c) * * *

(2) Documents incorporated by reference.

Source and name of referenced material | 49 CFR reference
* * * * * * *
B. American Petroleum Institute (API):
(1) API Specification 5L “Specification for Line Pipe,” (43rd edition and errata, 2004) | §§ 192.55(e); 192.113; Item I of Appendix B.
(2) API Recommended Practice 5L1 “Recommended Practice for Railroad Transportation of Line Pipe,” (6th edition, 2002) | § 192.65(a).
(3) API Specification 6D “Pipeline Valves,” (22nd edition, January 2002) | § 192.145(a).
(4) API Recommended Practice 80, “Guidelines for the Definition of Onshore Gas Gathering Lines,” (1st edition, April 2000) | § 192.8(a); 192.8(a)(1); 192.8(a)(2); 192.8(a)(3); 192.8(a)(4).
(5) API 1104 “Welding of Pipelines and Related Facilities,” (19th edition, 1999, including Errata October 31, 2001) | §§ 192.227(a); 192.229(c)(1); 192.241(c); Item II, Appendix B.
(6) API Recommended Practice 1162 “Public Awareness Programs for Pipeline Operators,” (1st edition, December 2003) | §§ 192.616(a); 192.616(b); 192.616(c).
* * * * * * *

4. Paragraph (a) of § 192.227 is revised to read as follows:

§ 192.227 Qualification of welders.

(a) Except as provided in paragraph (b) of this section, each welder must be qualified in accordance with section 6 of API 1104 (incorporated by reference, see § 192.7) or section IX of the ASME Boiler and Pressure Vessel Code (incorporated by reference, see § 192.7). However, a welder qualified under an earlier edition than listed in § 192.7 of this part may weld but may not requalify under that earlier edition.

* * * * *

5. Paragraph (g)(1) of § 192.727 is revised and paragraph (g)(2) is removed to read as follows:

§ 192.727 Abandonment or deactivation of facilities.

* * * * *

(g) * * *

(1) The preferred method to submit data on pipeline facilities abandoned after October 10, 2000 is to the National Pipeline Mapping System (NPMS) in accordance with the NPMS “Standards for Pipeline and Liquefied Natural Gas Operator Submissions.” To obtain a copy of the NPMS Standards, please refer to the NPMS homepage at http://www.npms.phmsa.dot.gov or contact the NPMS National Repository at 703-317-3073. A digital data format is preferred, but hard copy submissions are acceptable if they comply with the NPMS Standards. In addition to the NPMS-required attributes, operators must submit the date of abandonment, diameter, method of abandonment, and certification that, to the best of the operator's knowledge, all of the reasonably available information requested was provided and, to the best of the operator's knowledge, the abandonment was completed in accordance with applicable laws. Refer to the NPMS Standards for details in preparing your data for submission. The NPMS Standards also include details of how to submit data. Alternatively, operators may submit reports by mail, fax or e-mail to the Pipeline and Hazardous Materials Safety Administration, U.S. Department of Transportation, Room 2103, 400 Seventh Street, SW., Washington, DC 20590; fax (202) 366-4566; e-mail, roger.little@dot.gov. The information in the report must contain all reasonably available information related to the facility, including information in the possession of a third party. The report must contain the location, size, date, method of abandonment, and a certification that the facility has been abandoned in accordance with all applicable laws.

(2) [Reserved].

6. Section 192.903 is amended by adding paragraphs (3) and (4) of “High consequence area” to read as follows:

§ 192.903 What definitions apply to this subpart?

* * * * *

High consequence area means an area established by one of the methods described in paragraphs (1) or (2) as follows:

* * * * *

(3) Where a potential impact circle is calculated under either method (1) or (2) to establish a high consequence area, the length of the high consequence area extends axially along the length of the pipeline from the outermost edge of the first potential impact circle that contains either an identified site or 20 or more buildings intended for human occupancy to the outermost edge of the last contiguous potential impact circle that contains either an identified site or 20 or more buildings intended for human occupancy. (See Figure E.I.A. in Appendix E.)

(4) If in identifying a high consequence area under paragraph (1)(iii) of this definition or paragraph (2)(i) of this definition, the radius of the potential impact circle is greater than 660 feet (200 meters), the operator may identify a high consequence area based on a prorated number of buildings intended for human occupancy with a distance of 660 feet (200 meters) from the centerline of the pipeline until December 17, 2006. If an operator chooses this approach, the operator must prorate the number of buildings intended for human occupancy based on the ratio of an area with a radius of 660 feet (200 meters) to the area of the potential impact circle (i.e., the prorated number of buildings intended for human occupancy is equal to 20 × (660 feet) [or 200 meters]/potential impact radius in feet [or meters] ²).

* * * * *

7. Paragraphs (1), (2), and (3) of § 192.949 are redesignated to read as (a), (b), (c) and the section heading is revised:

§ 192.949 How does an operator notify PHMSA?

* * * * *

(a) Sending the notification to the Pipeline and Hazardous Materials Safety Administration, U.S. Department of Transportation, Room 2103, 400 Seventh Street, SW., Washington, DC 20590;

(b) Sending the notification by fax to (202) 366-4566; or

(c) Entering the information directly on the Integrity Management Database (IMDB) Web site at http://primis.phmsa.dot.gov/gasimp/.

8. Paragraphs (1), (2), and (3) of § 192.951 are redesignated to read as (a), (b), and (c):

§ 192.951 Where does an operator file a report?

* * * * *

(a) By mail to the Pipeline and Hazardous Materials Safety Administration, U.S. Department of Transportation, Room 2103, 400 Seventh Street SW., Washington, DC 20590;

(b) Via fax to (202) 366-4566; or

(c) Through the online reporting system provided by PHMSA for electronic reporting available at the PHMSA Home Page at http://phmsa.dot.gov.

PART 195—[AMENDED]

1. The authority citation for part 195 continues to read as follows:

Authority: 49 U.S.C. 5103, 60102, 60104, 60108, 60109, 60118; and 49 CFR 1.53.

2. Paragraph (a) and the section heading of § 195.59 is revised and paragraph (b) is removed, to read as follows:

§ 195.59 Abandonment or deactivation of facilities.

* * * * *

(a) The preferred method to submit data on pipeline facilities abandoned after October 10, 2000 is to the National Pipeline Mapping System (NPMS) in accordance with the NPMS “Standards for Pipeline and Liquefied Natural Gas Operator Submissions.” To obtain a copy of the NPMS Standards, please refer to the NPMS homepage at http://www.npms.phmsa.dot.gov or contact the NPMS National Repository at 703-317-3073. A digital data format is preferred, but hard copy submissions are acceptable if they comply with the NPMS Standards. In addition to the NPMS-required attributes, operators must submit the date of abandonment, diameter, method of abandonment, and certification that, to the best of the operator's knowledge, all of the reasonably available information requested was provided and, to the best of the operator's knowledge, the abandonment was completed in accordance with applicable laws. Refer to the NPMS Standards for details in preparing your data for submission. The NPMS Standards also include details of how to submit data. Alternatively, operators may submit reports by mail, fax or e-mail to the Pipeline and Hazardous Materials Safety Administration, U.S. Department of Transportation, Room 2103, 400 Seventh Street, SW., Washington, DC 20590; fax (202) 366-4566; e-mail, roger.little@dot.gov. The information in the report must contain all reasonably available information related to the facility, including information in the possession of a third party. The report must contain the location, size, date, method of abandonment, and a certification that the facility has been abandoned in accordance with all applicable laws.

(b) [Reserved].

Issued in Washington, DC on January 24, 2007.
Stacey L. Gerard,
Acting Deputy Administrator.

[FR Doc. E7-1652 Filed 1-31-07; 8:45 am]

BILLING CODE 4910-60-P